DEPARTMENT OF COMMERCE

National Oceanic and Atmospheric Administration

Science Advisory Board

AGENCY: Office of Oceanic and Atmospheric Research (OAR), National Oceanic and Atmospheric Administration (NOAA), Department of Commerce (DOC).

ACTION: Notice of open meeting.

SUMMARY: The Science Advisory Board (SAB) was established by a Decision Memorandum dated September 25, 1997, and is the only Federal Advisory Committee with responsibility to advise the Under Secretary of Commerce for Oceans and Atmosphere on strategies for research, education, and application of science to operations and information services. SAB activities and advice provide necessary input to ensure that National Oceanic and Atmospheric Administration (NOAA) science programs are of the highest quality and provide optimal support to resource management.

Time and Date: The meeting will be held Wednesday March 8, 2006, from 1 p.m. to 5 p.m. and Thursday March 9, 2006, from 8:30 a.m. to 5 p.m. These times and the agenda topics described below are subject to change. Refer to the Web page http://www.sab.noaa.gov/Meetings/meetings.html for the most up-to-date meeting agenda.

Place: The meeting will be held both days at the Courtyard Marriott Hotel, 8506 Fenton Street, Silver Spring, Maryland 20910.

Status: The meeting will be open to public participation with a 30-minute public comment period on March 8 (check Web site to confirm time). The SAB expects that public statements presented at its meetings will not be repetitive of previously submitted verbal or written statements. In general, each individual or group making a verbal presentation will be limited to a total time of five (5) minutes. Written comments (at least 35 copies) should be received in the SAB Executive Director's Office by March 1, 2006 to provide sufficient time for SAB review. Written comments received by the SAB Executive Director after March 1 will be distributed to the SAB, but may not be reviewed prior to the meeting date. Seats will be available on a first-come, first-served basis.

Matters to be Considered: The meeting will include the following topics: (1) Briefing on the Environmental Impact of Hurricane Katrina; (2) Update and discussion of the Preliminary Report of the Hurricane Intensity Research Working Group; (3) Update on the Review of NOAA Ecosystem Science and Research; (4) Report on the Status of Social Science in NOAA; (5) Briefing on Invasive Species Activities in NOAA; (6) Discussion of Stakeholder Input and NOAA's Annual Guidance Memorandum for Fiscal Years 2009-2013 and (7) Update on the NOAA Strategy for Environmental Literacy.

FOR FURTHER INFORMATION CONTACT: Michael Uhart, Executive Director, Science Advisory Board, NOAA, Rm. 11142, 1315 East-West Highway, Silver Spring, Maryland 20910. (Phone: 301-713-9121, Fax: 301-713-3515, E-mail: Michael.Uhart@noaa.gov); or visit the NOAA SAB Web site at http://www.sab.noaa.gov.

Dated: February 15, 2006.
Mark E. Brown,
Chief Financial Officer, Office of Oceanic and Atmospheric Research, National Oceanic and Atmospheric Administration, Atmospheric Administration.

[FR Doc. E6-2459 Filed 2-21-06; 8:45 am]

BILLING CODE 3510-KD-P